NUCLEAR REGULATORY COMMISSION

[NRC-2020-0145]

Format Options for Requesting and Documenting Evaluation of Alternatives

AGENCY: Nuclear Regulatory Commission.

ACTION: Notice of format for certain relief requests from licensees.

SUMMARY: The U.S. Nuclear Regulatory Commission (NRC) is notifying the public of an online submission option and format for documenting the NRC's evaluation of a request for an alternative to the regulatory requirements.

DATES: The format described in this document will take effect on June 19, 2020.

ADDRESSES: Please refer to Docket ID NRC-2020-0145 when contacting the NRC about the availability of information regarding this document. You may obtain publicly-available information related to this document using any of the following methods:

• Federal Rulemaking Website: Go to https://www.regulations.gov/ and search for Docket ID NRC-2020-0145. Address questions about NRC docket IDs to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's Public Website: The online form is available in the NRC's public website at https://www.nrc.gov/about-nrc/covid-19/reactors/.

FOR FURTHER INFORMATION CONTACT: James G. Danna, U.S. Nuclear Regulatory Commission, Washington, DC 20555-0001, telephone: 301-415-7422, email: James.Danna@nrc.gov.

SUPPLEMENTARY INFORMATION: On January 31, 2020, the U.S. Department of Health and Human Services declared a public health emergency (PHE) for the United States to aid the nation's healthcare community in responding to the Coronavirus Disease 2019 (COVID-19). On March 11, 2020, the COVID-19 outbreak was characterized as a pandemic by the World Health Organization.

As discussed during a public meeting held on March 20, 2020, with nuclear industry representatives and members of the public, this is an unprecedented time for our country, the NRC, and its regulated entities. The NRC is committed to following the NRC's Principles of Good Regulation (independence, openness, efficiency, clarity, and reliability) while performing our mission. In keeping with these principles, the NRC is providing additional flexibility by creating an online submission form licensees may use to request relief in the form of alternatives under Title 10 of the Code of Federal Regulations (10 CFR) Section 50.55a(z), “Alternatives to codes and standards requirements,” from certain NRC regulatory requirements in 10 CFR 50.55a(b) through (h).

The regulations in 10 CFR 50.55a(z), “Alternatives to codes and standards requirements,” state:

Alternatives to the requirements of paragraphs (b) through (h) of this section or portions thereof may be used when authorized by the Director, Office of Nuclear Reactor Regulation. A proposed alternative must be submitted and authorized prior to implementation. The applicant or licensee must demonstrate that:

(1) Acceptable level of quality and safety. The proposed alternative would provide an acceptable level of quality and safety; or

(2) Hardship without a compensating increase in quality and safety. Compliance with the specified requirements of this section would result in hardship or unusual difficulty without a compensating increase in the level of quality and safety.

In response to the COVID-19 PHE and the anticipated requests by licensees for alternatives to certain regulatory requirements in 10 CFR 50.55a, “Codes and standards,” the NRC's Office of Nuclear Reactor Regulation is providing a Web-based online form that licensees may use to submit their requests. The online form may only be used for requests to use alternatives submitted under 10 CFR 50.55a(z). The form may be used regardless of whether the request is related to COVID-19. Any licensee wishing to request an alternative under 10 CFR 50.55a(z) may use the form. Use of the online form by licensees is optional. Whether a licensee chooses to use a traditional method to submit a request or opts to use the online submission form, the licensee must adhere to the requirements of 10 CFR 50.4, “Written Communications,” and submit all information necessary for the NRC to conduct a technical evaluation of the request. The licensee's submittal will be captured as an official agency record in ADAMS. The public and stakeholders will have access through ADAMS to the licensee's request and the supporting information provided by the licensee.

Additionally, the NRC will use a streamlined format for documenting its regulatory and technical evaluation and issuing an approval of a licensee's request for an alternative under 10 CFR 50.55a(z). This format is different from the expedited processing the NRC has used on some COVID-related matters. It will not affect the way in which the NRC reviews the requests for alternatives, it will just streamline format in which that review is documented. This streamlined format will still consist of a safety evaluation that documents the rationale for the NRC's decision. The NRC expects that the streamlined format will reduce the amount of information repeated from other sources, such as the licensee's application. For example, safety evaluations will no longer extensively quote from the application in a “Licensee's Proposed Alternative” section. That information will, however, still be available to the public in the application, which the safety evaluation will cite, along with an ADAMS accession number. The format will still provide the same level of detail for the NRC's regulatory and technical evaluation of the licensee's request. The public will continue to have the same level of access to the information documenting the NRC staff's decision in response to the licensee's request. The online form is available in the NRC's public website at https://www.nrc.gov/about-nrc/covid-19/reactors/.

Dated: June 19, 2020.
For the Nuclear Regulatory Commission.
James G. Danna,
Chief, Plant Licensing Branch 1, Division of Operating Reactor Licensing, Office of Nuclear Reactor Regulation.

[FR Doc. 2020-13646 Filed 6-23-20; 8:45 am]

BILLING CODE 7590-01-P